DEPARTMENT OF ENERGY

Federal Energy Regulatory Commission

[Docket No. IC23-12-000]

Commission Information Collection Activities (Ferc-521); Comment Request; Extension

AGENCY: Federal Energy Regulatory Commission, Department of Energy.

ACTION: Notice of information collection and request for comments.

SUMMARY: In compliance with the requirements of the Paperwork Reduction Act of 1995 (PRA), the Federal Energy Regulatory Commission (Commission or FERC) is soliciting public comment on FERC-521 (Payments for Benefits from Headwater Improvements).

DATES: Comments on the collection of information are due September 8, 2023.

ADDRESSES: Send written comments on FERC-521 to OMB through www.reginfo.gov/public/do/PRAMain, Attention: Federal Energy Regulatory Commission Desk Officer. Please identify the OMB Control Number 1902-0087 (Payments for Benefits from Headwater Improvements) in the subject line. Your comments should be sent within 30 days of publication of this notice in the Federal Register.

Please submit copies of your comments (identified by Docket No. IC23-12-000 and the form) to the Commission as noted below. Electronic filing through https://www.ferc.gov, is preferred.

• Electronic Filing: Documents must be filed in acceptable native applications and print-to-PDF, but not in scanned or picture format.

• For those unable to file electronically, comments may be filed by USPS mail or by hand (including courier) delivery.

○ Mail via U.S. Postal Service only, addressed to: Federal Energy Regulatory Commission, Secretary of the Commission, 888 First Street NE, Washington, DC 20426.

○ Mail via any other service (including courier delivery): Federal Energy Regulatory Commission, Secretary of the Commission, 12225 Wilkins Avenue, Rockville, MD 20852.

Please reference the specific collection number(s) and/or title(s) in your comments.

Instructions: OMB submissions must be formatted and filed in accordance with submission guidelines at: www.reginfo.gov/public/do/PRAMain. Using the search function under the “Currently Under Review field,” select Federal Energy Regulatory Commission; click “submit” and select “comment” to the right of the subject collection. FERC submissions must be formatted and filed in accordance with submission guidelines at: https://www.ferc.gov. For user assistance contact FERC Online Support by email at ferconlinesupport@ferc.gov, or by phone at (866) 208-3676 (toll-free).

Docket: Users interested in receiving automatic notification of activity in this docket or in viewing/downloading comments and issuances in this docket may do so at https://www.ferc.gov.

FOR FURTHER INFORMATION CONTACT: Ellen Brown may be reached by email at DataClearance@FERC.gov and telephone at (202) 502-8663.

SUPPLEMENTARY INFORMATION:

Title: FERC-521, Payments for Benefits from Headwater Improvements.

OMB Control No.: 1902-0087.

Type of Request: Three-year extension of the FERC-521 information collection requirements with no changes to the reporting requirements.

Abstract: The purpose of FERC-521 is to implement the information collection regarding “headwater benefits” pursuant to section 10(f) of the Federal Power Act (FPA).¹ As defined at 18 CFR 11.10(a)(2), headwater benefits consist of the additional electric generation of a downstream project that results from regulation of the flow of a river by a headwater (i.e., upstream) project, usually by increasing or decreasing the release of water from a storage reservoir. The respondents of this information collection are owners of headwater projects constructed by the United States, by licensees, and pre-1920 permittees. 18 CFR 11.16(b). The Commission requires basic project information including owner information, location, and storage capacity to be filed by the respondents.

¹ 16 U.S.C. 803(f).

Type of Respondents: There are two types of entities that respond, Federal and Non-Federal storage and hydropower project owners. The Federal entities that typically respond include the U.S. Army Corps of Engineers and the U.S. Department of Interior Bureau of Reclamation. The Non-Federal entities may consist of any Municipal or Non-Municipal hydropower project owner.

Estimate of Annual Burden ² and cost ³: The Commission estimates the total Public Reporting Burden for this information collection as:

² Burden is defined as the total time, effort, or financial resources expended by persons to generate, maintain, retain, or disclose or provide information to or for a Federal agency. For further explanation of what is included in the information collection burden, refer to 5 Code of Federal Regulations 1320.3.

³ The estimates for cost per response are derived using the 2022 FERC average salary plus benefits of $188,922/year (or $91.00/hour). Commission staff finds that the work done for this information collection is typically done by wage categories similar to those at FERC.

FERC-521: Payments for Benefits From Headwater Improvements
| Number of respondents | Annual number of responses per respondent | Total number of responses | Average burden & cost per response | Total annual burden hours & total annual cost | Cost per respondent ($)
| (1) | (2) | (1) * (2) = (3) | (4) | (3) * (4) = (5) | (5) ÷ (1)
Federal and Non-Federal project owners | 3 | 1 | 3 | 40 hrs.; $3,640 | 120 hrs.; $10,920 | $3,640

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: August 3, 2023.
Debbie-Anne A. Reese,
Deputy Secretary.

[FR Doc. 2023-17063 Filed 8-8-23; 8:45 am]

BILLING CODE 6717-01-P